FEDERAL COMMUNICATIONS COMMISSION

47 CFR Part 25

[GN Docket Nos. 17-183, 18-122; DA 18-398]

Notice of Temporary Freeze on New or Modified Earth Station Applications in the 3.7-4.2 GHz Band; 90-Day Window for Filing Applications Currently Operating in 3.7-4.2 GHz Band

AGENCY: Federal Communications Commission.

ACTION: Proposed rule.

SUMMARY: The International, Public Safety and Homeland Security, and Wireless Telecommunications Bureaus (Bureaus) of the Federal Communications Commission (Commission) announce a temporary freeze, effective April 19, 2018, on the filing of new or modification applications for fixed-satellite service (FSS) earth station licenses, receive-only earth station registrations, and fixed microwave licenses in the 3.7-4.2 GHz frequency band. As a limited exception to the freeze, the International Bureau concurrently opens a 90-day window during which entities that own or operate existing FSS earth stations in the 3.7-4.2 GHz band may file an application to register or license the earth station if it is currently not registered or licensed, or may file an application to modify a current registration or license, in the International Bureau Filing System (IBFS).

DATES: Temporary freeze effective April 19, 2018; the 90-day filing window closes on July 18, 2018.

FOR FURTHER INFORMATION CONTACT: Christopher Bair, 202-418-0945 or Paul Blais, 202-418-7274.

SUPPLEMENTARY INFORMATION: This is a summary of the Commission's document, DA 18-398, released April 19, 2018. The full text of this document is available at https://transition.fcc.gov/Daily_Releases/Daily_Business/2018/db0419/DA-18-398A1.pdf. It is also available for inspection and copying during business hours in the FCC Reference Information Center, Portals II, 445 12th Street SW, Room CY-A257, Washington, DC 20554. To request materials in accessible formats for people with disabilities, send an email to FCC504@fcc.gov or call the Consumer & Governmental Affairs Bureau at 202-418-0530 (voice), 202-418-0432 (TTY).

Background. On August 3, 2017, the Commission released a Notice of Inquiry titled Expanding Flexible Use in Mid-Band Spectrum Between 3.7 and 24 GHz (NOI). In that NOI, the Commission sought detailed comment on frequency bands that had garnered interest to potentially support increased flexible broadband uses, including the 3.7-4.2 GHz band. While recognizing the existing FSS (space-to-Earth) and Fixed Service (FS) uses of the 3.7-4.2 GHz band, the Commission sought comment on the potential for more intensive use of that band for wireless broadband, including asking how current service rules governing geostationary satellite orbit FSS and FS could be modified to promote flexible use, stimulate investment, and encourage more intensive deployment.

Temporary Freeze. To preserve the current landscape of authorized operations in the 3.7-4.2 GHz band pending the Commission's consideration of the issues raised in response to the NOI, the Bureaus announce a temporary freeze, effective as of April 19, 2018, on the filing of new or modification applications for earth station licenses, receive-only earth station registrations, and fixed microwave licenses in the 3.7-4.2 GHz band.

Earth Stations. During the freeze the International Bureau will dismiss applications, or those portions of applications, received for new earth station licenses, new receive-only earth station registrations, and modifications to earth stations currently authorized to operate in the 3.7-4.2 GHz band. The freeze does not extend to applications for renewal or cancellation of current earth station authorizations, or modifications to correct location or other data required in the earth station file.

Fixed Microwave. During the freeze, the Wireless Telecommunications and Public Safety and Homeland Security Bureaus will dismiss applications received for new or major modifications to fixed microwave stations to operate in the 3.7-4.2 GHz band. The freeze does not extend to applications for renewal, cancellation, minor modifications, or data corrections.

Waiver Requests. The appropriate Bureau will consider requests for waiver of this freeze on a case-by-case basis and upon a demonstration that waiver will serve the public interest and not undermine the objectives of the freeze.

90-day Application Filing Window for Existing FSS Earth Stations. The International Bureau announces a 90-day window for filing applications to license or register existing earth stations in the 3.7-4.2 GHz frequency band as a limited exception to the implementation of this freeze. For purposes of this Notice, existing earth stations are those that have been constructed and are operational as of April 19, 2018. The filing window will close on July 18, 2018. This filing window provides a limited opportunity to operators with constructed and operational, but currently unregistered or unlicensed, earth stations to file applications to be licensed or registered for interference protection, subject to the outcome of the Commission's ongoing inquiry and any subsequent proceeding(s).

Temporary Waiver of Frequency Coordination Requirement. To obtain the best information possible on existing earth stations in this band without imposing a potentially unnecessary economic burden on eligible FSS earth station applicants in the 3.7-4.2 GHz band filing within the 90-day window, the International Bureau hereby grants a temporary waiver of the frequency coordination requirement. Applicants who file within the 90-day window will otherwise be processed normally. Registrations or licenses granted for applications filed without the coordination report will include a condition noting that the license or registration does not afford interference protection from FS transmissions. Upon announcing the termination of the freeze, the International Bureau may modify or terminate the waiver by requiring or permitting registrants or licensees who filed applications within the 90-day window without a coordination report to file such a report as required by the Commission's rules, and to take any appropriate action in light of such filing.

Applicants for earth station licenses and registrations must file on FCC Form 312 Main Form, complete Form 312 Schedule B, remit the statutory application-filing fee, and provide any additional information required by applicable rules. Applications must be filed electronically through IBFS at http://licensing.fcc.gov/myibfs.

This document does not contain proposed information collection requirements subject to the Paperwork Reduction Act of 1995, Public Law 104-13. In addition, therefore, it does not contain any proposed information collection burden for small business concerns with fewer than 25 employees, pursuant to the Small Business Paperwork Relief Act of 2002, Public Law 107-198, see 44 U.S.C. 3506(c)(4).

Federal Communications Commission.
Troy Tanner,
Deputy Chief, International Bureau.

[FR Doc. 2018-09943 Filed 5-9-18; 8:45 am]

BILLING CODE 6712-01-P